NATIONAL CREDIT UNION ADMINISTRATION

Sunshine Act; Notice of Meeting

TIME AND DATE: 10 a.m., Thursday, January 26, 2012.

PLACE: Board Room, 7th Floor, Room 7047, 1775 Duke Street (All visitors must use Diagonal Road Entrance), Alexandria, VA 22314-3428.

STATUS: Open.

Matters To Be Considered

1. Final Rule—Part 741 of NCUA's Rules and Regulations, Interest Rate Risk Policy and Program.

2. Proposed Rule—Part 741 of NCUA's Rules and Regulations, Loan Workouts, Nonaccrual Policy, and Regulatory Reporting of Troubled Debt Restructured Loans.

3. Advance Notice of Proposed Rulemaking, Part 703 of NCUA's Rules and Regulations, Derivatives.

RECESS: 11:15 a.m.

TIME AND DATE: 11:30 a.m., Thursday, January 26, 2012.

PLACE: Board Room, 7th Floor, Room 7047, 1775 Duke Street, Alexandria, VA 22314-3428.

STATUS: Closed.

Matters To Be Considered

1. Merger Request Pursuant to Part 708b of NCUA's Rules and Regulations. Closed pursuant to exemption (8).

2. Consideration of Supervisory Activity. Closed pursuant to some or all of the following: exemptions (8), (9)(i)(B) and 9(ii).

FOR FURTHER INFORMATION CONTACT: Mary Rupp, Secretary of the Board, Telephone: (703) 518-6304.

Mary Rupp,
Board Secretary.

[FR Doc. 2012-1382 Filed 1-19-12; 4:15 pm]

BILLING CODE 7535-01-P